DEPARTMENT OF DEFENSE

Office of the Secretary

Panel To Review the V-22 Program

AGENCY: Department of Defense.

ACTION: Notice.

SUMMARY: The Panel will conduct two open meetings. On March 9, 2001 the Panel will receive information from the general public regarding the V-22 aircraft. On April 13, 2001 the Panel will conduct deliberations. The meetings will begin at 1 p.m. and end no later than 5 p.m.

DATES: March 9, 2001 and April 13, 2001.

ADDRESSES: Crowne Plaza Hotel, 1489 Jefferson Davis Highway, Arlington Ballroom, Mezzanine Level, Arlington, VA 22202.

FOR FURTHER INFORMATION CONTACT: Contact Mr. Gary J. Gray, the Executive Secretary, 1235 Jefferson Davis Highway, Suite 940, Arlington, VA 22202-3283, phone (703) 602-1515, fax (703) 602-1532. Requests to present oral comments regarding of the V-22 aircraft must include a brief summary of the material to be presented and be received by letter or email (V22panel@OSD.mil) no later than noon Thursday, March 1, 2001. Written comments must be received no later than noon, March 5, 2001 to ensure their availability to panel members prior to the hearing. Request that a copy of written comments be emailed to the Panel or provided on a floppy disk in Microsoft Word format. Copies of the draft meeting agenda can be obtained by contacting Mrs. Carolyn Duke or Mr. Doug Pang by phone (703) 602-1515 or by fax (703) 602-1532.

SUPPLEMENTARY INFORMATION: Seating spaces will be reserved only for scheduled speakers. The remaining seats will be available on a first-come, first-served basis beginning at 12:30 p.m. No teleconference lines will be available. In general, each individual or group making an oral presentation will be limited to a total time of 10 minutes. Written comments will be provided to panel members if they are received in the Office of the Review Panel no later than noon March 5, 2001. Written comments received after that date will be sent to panel members after the adjournment of the March 9th meeting and will also be included in the official records.

Dated: February 9, 2001.
L.M. Bynum,
Alternate OSD Federal Register Liaison Officer, Department of Defense.

[FR Doc. 01-3789 Filed 2-14-01; 8:45 am]

BILLING CODE 5001-10-M